DEPARTMENT OF ENERGY

Federal Energy Regulatory Commission

[Docket No. RP00-260-015]

Transcontinental Gas Pipe Line Corporation; Notice of Refund Report

November 6, 2002.

Take notice that on October 31, 2002 Transcontinental Gas Pipe Line Corporation (Transco) tendered for filing its refund report showing that on October 30, 2002, Transco submitted a report reflecting the flow through of a refund received from Texas Gas Transmission Corporation.

Transco states that it refunded to its FTNT customer, New York Power Authority, $716,239.06 resulting from the settlement under the related provision of Texas Gas Transmission's FERC Gas Tariff in Docket No. RP00-260. The refund covers the time period from November 1, 2000 to July 31, 2002.

Transco states that copies of this filing have been served on affected shippers and state commissions.

Any person desiring to protest said filing should file a protest with the Federal Energy Regulatory Commission, 888 First Street, NE., Washington, DC 20426, in accordance with section 385.211 of the Commission's rules and regulations. All such protests must be filed on or before November 13, 2002. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Magalie R. Salas,
Secretary.

[FR Doc. 02-28774 Filed 11-12-02; 8:45 am]

BILLING CODE 6717-01-P